COMMODITY FUTURES TRADING COMMISSION

Agricultural Advisory Committee

AGENCY: Commodity Futures Trading Commission.

ACTION: Notice of meeting.

SUMMARY: The Commodity Futures Trading Commission (CFTC) announces that on April 5, 2023, from 9:00 a.m. to 12:00 p.m. (Eastern Daylight Time), the Agricultural Advisory Committee (AAC) will hold a public meeting via teleconference. At this meeting, the AAC will focus on topics related to the agricultural economy, including geopolitical and sustainability issues, as well as recent developments in the agricultural derivatives markets.

DATES: The meeting will be held on April 5, 2023, from 9:00 a.m. to 12:00 p.m. (Eastern Daylight Time). Please note that the teleconference may end early if the AAC has completed its business. Members of the public who wish to submit written statements in connection with the meeting should submit them by April 12, 2023.

ADDRESSES: The meeting will be held via teleconference. You may submit public comments, identified by “Agricultural Advisory Committee,” through the CFTC website at https://comments.cftc.gov. Follow the instructions for submitting comments through the Comments Online process on the website. If you are unable to submit comments online, contact Swati R. Shah, Designated Federal Officer, via the information listed under FOR FURTHER INFORMATION CONTACT to discuss alternate means of submitting your comments. Any statements submitted in connection with the committee meeting will be made available to the public, including publication on the CFTC website, https://www.cftc.gov.

FOR FURTHER INFORMATION CONTACT: Swati R. Shah, AAC Designated Federal Officer, Commodity Futures Trading Commission, Three Lafayette Centre, 1155 21st Street NW, Washington, DC 20581; (202) 418-5042; or aac@cftc.gov.

SUPPLEMENTARY INFORMATION: The meeting will be open to the public. Members of the public may listen to the meeting by telephone by calling a domestic or international toll or toll-free number to connect to a live, listen-only audio feed. Call-in participants should be prepared to provide their first name, last name, and affiliation.

Domestic Toll Free Numbers: 833-568-8864 or 833-435-1820.

Domestic Toll Numbers (for higher quality, dial a number based on your current location): 1-669-254-5252 or 1-646-964-1167 or 1-646-828-7666 or 1-669-216-1590 or 1-415-449-4000 or 1-551-285-1373.

International Toll and Toll Free: Will be posted on the CFTC's website, https://www.cftc.gov, on the page for the meeting, under Related Links.

Call-In/Webinar ID: 161 035 4995.

Pass Code/Pin Code: 381448.

Members of the public may also view a live webcast of the meeting via the www.cftc.gov website. The meeting agenda may change to accommodate other AAC priorities. For agenda updates, please visit the AAC committee site at: https://www.cftc.gov/About/AdvisoryCommittees/AAC.

After the meeting, a transcript of the meeting will be published through a link on the CFTC's website, https://www.cftc.gov. Persons requiring special accommodations to attend the meeting because of a disability should notify the contact person above.

(Authority: 5 U.S.C. 1009(a)(2).)

Dated: March 8, 2023.
Christopher Kirkpatrick,
Secretary of the Commission.

[FR Doc. 2023-05088 Filed 3-10-23; 8:45 am]

BILLING CODE 6351-01-P